DEPARTMENT OF COMMERCE

[I.D. 110200B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Foreign Fishing Vessels Operating in Internal Waters.

Form Number(s): None.

OMB Approval Number: 0648-0329.

Type o f Request: Regular submission.

Burden Hours: 36.

Number of Respondents: 6.

Average Hours Per Response: 30 minutes.

Needs and Uses: Foreign fishing vessels engaged in processing and support of U.S. fishing vessels within the internal waters of a state, in compliance with the terms and conditions set by the authorizing governor, are required to report the tonnage and location of fish received from U.S. vessels. This reporting is required by the Magnuson-Stevens Fishery Conservation and Management Act. Weekly reports are submitted to the NMFS Regional Administrator to allow monitoring of the quantity of fish received by foreign vessels.

Affected Public: Business and other for-profit organizations.

Frequency: Weekly.

Respondent's Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: November 1, 2000.
Gwellnar Banks,
Management Analyst, Office of the Chief Information Officer.

[FR Doc. 00-28679 Filed 11-7-00; 8:45 am]

BILLING CODE 3510-22-S